DEPARTMENT OF LABOR

Agency Information Collection Activities; Submission for OMB Review; Comment Request, Cascades Job Corps College and Career Academy Pilot Evaluation, Continuing Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Cascades Job Corps College and Career Academy Pilot Evaluation. A copy of the proposed Information Collection Request (ICR) can be obtained by contacting the office listed below in the addressee section of this notice.

DATES: Written comments must be submitted to the office listed in the addressee section below on or before December 23, 2019.

ADDRESSES: You may submit comments by either one of the following methods: Email: ChiefEvaluationOffice@dol.gov; Deborah Martierrez, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Deborah Martierrez by email at ChiefEvaluationOffice@dol.gov or by phone at (202) 693-5091.

SUPPLEMENTARY INFORMATION:

I. Background: The Chief Evaluation Office (CEO), U.S. Department of Labor (DOL), was approved under OMB number 1290-0012 for a data collection activity as part of the Cascades Job Corps College and Career Academy Evaluation Pilot Evaluation. The goal of the evaluation is to determine the effectiveness of the Pilot program in improving employment and educational outcomes for youth ages 21 and under. The impact study randomly assigns individuals to receive program services or to a group that cannot access these services but who can participate in other similar programs. The impact study will compare the employment and educational outcomes of the groups to determine the effectiveness of the pilot program. The evaluation also includes an implementation study that will describe the services participants receive through the pilot program as well as provide operational lessons.

This Federal Register Notice provides the opportunity to comment on two proposed changes to information collection activities for the Cascades Job Corps College and Career Academy Evaluation Pilot Evaluation:

1. Extension of data collection through the follow-up tracking form; and

2. A modest increase in burden for the implementation site visits.

The extension of the follow-up data collection and additional burden for the implementation site visits will provide vital data for the evaluation.

II. Desired Focus of Comments: Currently, the Department of Labor is soliciting comments concerning the above data collection for the Cascades Job Corps College and Career Academy Evaluation Pilot Evaluation. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for extending ongoing tracking of participants, and an expansion of site visits.

Type of Review: Continuing information collection request.

OMB Control Number: 1290-0012.

Affected Public: Cascades Job Corps College and Career Academy Evaluation Pilot Evaluation grantees, partners and participants.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated Burden Hours
Interview Protocol—Center Director (Center Overview) | ¹ 1 | 1 | 1 | 1 | 1
Interview Protocol—Community Culture, Student Support Systems, Student Rewards & Recognitions, and Disciplinary Policies | ¹ 1 | 1 | 1 | 1 | 1
Interview Protocol—Education & Training Services Overview | ¹ 1 | 1 | 1 | 1 | 1
Interview Protocol—Education & Training Planning & Counseling Services Overview | ¹ 1 | 1 | 1 | 1 | 1
Interview Protocol—High School, High School Equivalency, Basic Education, and Education & Training Support Services Overview | ¹ 1 | 1 | 1 | 1 | 1
Interview Protocol—Trade/Pathway Managers or Supervisors (IT and Healthcare Trade/Pathway Overview) | ² 2 | 1 | 2 | 1 | 2
Interview Protocol—College Services Overview | ¹ 1 | 1 | 1 | 1 | 1
Interview Protocol—Non-Cognitive Social and Workplace Skills Development Services Overview | ¹ 1 | 1 | 1 | 1 | 1
Interview Protocol—Recruitment, Admissions, and Intake Services Overview | ¹ 1 | 1 | 1 | 1 | 1
Interview Protocol—Career Transition Readiness, Career Transition Services, Internship, and/or other Placement Services Overview | ³ 3 | 1 | 3 | 1 | 3
Interview Protocol—Employer/Service Provider Partners | ⁴ 2 | 1 | 2 | 0.5 | 1
Interview Protocol—Traditional Center Student Focus Groups | ⁵ 20 | 1 | 20 | 1 | 20
Follow-up Tracking Form | ⁶ 207 | 1.5 | 310 | 0.1 | 31
Total | 242 |  | 345 |  | 65
¹ Assumes 1 interview at CCCA and 1 interview at each of 2 different Traditional JC Centers (for a total of 3 interviews) of one hour each, over the three-year clearance period.
² Assumes approximately 2 interviews at CCCA and 2 interviews at 2 different Traditional JC Centers (for a total of 6 interviews) of one hour each, over the three-year clearance period.
³ Assumes approximately 3 interviews at CCCA and 3 interviews at 2 different Traditional JC Centers (for a total of 9 interviews) of one hour each, over the three-year clearance period.
⁴ Assumes approximately 2 interviews at CCCA and 2 interviews at 2 different Traditional JC Centers (for a total of 6 interviews) of a half-hour each, over the three-year clearance period.
⁵ Assumes 10 students per focus group, with 2 focus groups (one group of 10 for Health track and one group of 10 for IT track) at each of 3 sites (CCCA and 2 different Traditional JC Centers) for a total of 60 students over the three-year clearance period.
⁶ Total sample size for follow-up tracking is 620 study participants over the three-year clearance period.

Christina Yancey,
Chief Evaluation Officer, U.S. Department of Labor.

[FR Doc. 2019-23069 Filed 10-22-19; 8:45 am]

BILLING CODE 4510-HX-P